DEPARTMENT OF HOMELAND SECURITY

Coast Guard

33 CFR Part 165

[Docket Number USCG-2025-0223]

RIN 1625-AA87

Security Zones; Old Port Tampa, Sunshine Skyway Bridge, Manbirtee Key, Seaport Manatee, MacDill Air Force Base, Port of Tampa, Port Sutton, St. Petersburg Harbor, Crystal River, Big Bend, and Weedon Island, FL

AGENCY: Coast Guard, DHS.

ACTION: Final rule.

SUMMARY: The Coast Guard is establishing a permanent security zone in the vicinity of Seaport Manatee facilities and ship berths. This action is necessary to enhance safety and protect vessels, facilities and infrastructure from potential threats. This regulation will allow for controlled access of authorized vessels and facility personnel within the security zone.

DATES: This rule is effective December 22, 2025.

ADDRESSES: To view documents mentioned in this preamble as being available in the docket, go to https://www.regulations.gov, type USCG-2025-0223 in the search box and click “Search.” Next, in the Document Type column, select “Supporting & Related Material.”

FOR FURTHER INFORMATION CONTACT: If you have questions about this rule, call or email Lieutenant Ryan McNaughton, Sector St. Petersburg, Ports & Waterways Branch Chief, U.S. Coast Guard; telephone (571) 608-7131, email Ryan.A.McNaughton@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

In February 2024, Seaport Manatee requested the establishment of a Coast Guard security zone in vicinity of Seaport Manatee facilities and ship berths to bolster protection of the port. In response, on August 4, 2025, the Coast Guard published a notice of proposed rulemaking (NPRM) titled Security Zones; Tampa Bay: Big Bend, Boca Grande, Crystal River, East Bay, Hillsborough Bay, MacDill Air Force Base, Manbirtee Key, Old Port Tampa, Port Manatee, Port Tampa, Port St. Petersburg, Port Sutton and Weedon Island, FL (90 FR 36412). There we stated why we issued the NPRM and invited comments on our proposed regulatory action related to this security zone.

Under the authority in 46 U.S.C. 70051 and 70124, the COTP has determined that this rule is necessary to enhance safety and protect vessels, facilities, and infrastructure from potential threats. No vessel or person will be permitted to enter the security zone without obtaining permission from the COTP or their designated representative.

III. Discussion of Comments and the Rule

During the comment period that ended on September 3, 2025, we received one comment. The commenter recommended against establishing a security zone, based on concerns about using taxpayer money for this purpose. We decline to adopt this recommendation. We have determined that the security zone is necessary to protect the infrastructure of Seaport Manatee.

We also made the following technical changes to the final rule. We moved the new Seaport Manatee security zone from paragraph (a)(1)(xii) to paragraph (a)(1)(iv) of 33 CFR 165.703, and renumbered the remaining security zones in paragraph (a) accordingly. We moved the security zone to paragraph (a)(1)(iv) because the Seaport Manatee security zone is geographically close to the Manbirtee Key security zone in paragraph (a)(1)(iii), and we believe this will make the security zones easier to locate within the regulation. We also revised the title of § 165.703 to match the order the security zone locations are listed in paragraph (a).

This rule establishes a permanent security zone in the vicinity of Seaport Manatee facilities and ship berths to bolster protection of the port. Entry into this security zone is prohibited unless specifically authorized by COTP or their designated representative. A designated representative is a commissioned, warrant, or petty officer of the U.S. Coast Guard assigned to units under the operational control of the U.S. Coast Guard Sector St. Petersburg. The regulatory text appears at the end of this document.

IV. Regulatory Analyses

We developed this rule after considering numerous statutes and Executive orders related to rulemaking. Below we summarize our analyses based on a number of these statutes and Executive orders.

A. Impact on Small Entities

The Coast Guard certifies that, although some small entities may intend to transit the security zone above, this rule will not have a significant economic impact on a substantial number of small entities, as mandated by the Regulatory Flexibility Act of 1980, 5 U.S.C. 601-612 for the following reasons. Vessel traffic will be able to safely transit around this security zone. This security zone will only impact a small designated area, and the rule allows vessels to request permission to enter the zone from the COTP.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247).

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule involves a security zone that will prohibit entry within a very small area alongside piers at Seaport Manatee. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Revise § 165.703 to read as follows:

§ 165.703 Security Zones; Old Port Tampa, Sunshine Skyway Bridge, Manbirtee Key, Seaport Manatee, MacDill Air Force Base, Port of Tampa, Port Sutton, St. Petersburg Harbor, Crystal River, Big Bend, and Weedon Island, FL.

(a) Regulated areas. The following areas, denoted by coordinates fixed using the North American Datum of 1983 (World Geodetic System 1984) are security zones:

(1) Security zones for facilities and structures—(i) Old Port Tampa, Tampa, FL. All waters, from surface to bottom, in Old Tampa Bay encompassed within the following points: 27°51.62′ N, 082°33.14′ W; thence to 27°51.71′ N, 082°32.5′ W; thence to 27°51.76′ N, 082°32.5′ W; thence to 27°51.73′ N, 082°33.16′ W; thence to 27°51.62′ N, 082°33.14′ W, closing off the Old Port Tampa Channel.

(ii) Sunshine Skyway Bridge, FL. All waters in Tampa Bay, from surface to bottom, in Cut “A” channel beneath the bridge's main span encompassed within the following points: 27°37.30′ N, 082°39.38′ W; 27°37.13′ N, 082°39.26′ W; and the bridge structure columns, base and dolphins. This zone is specific to the bridge structure and dolphins and does not include waters adjacent to the bridge columns or dolphins outside of the bridge's main span. Any vessel may transit through this zone, but may not loiter, anchor, or conduct operations, including dredging, dive operation, surveying, or maintenance, unless otherwise directed by the Captain of the Port. Anyone wanting to conduct these operations must submit a request via email to WWMTampa@uscg.mil or contact the Sector Command Center after hours at 727.824.7506.

(iii) Manbirtee Key, Port of Manatee, FL. All waters, from surface to bottom, surrounding Manbirtee Key, Tampa Bay, FL extending 500 yards from the island's shoreline, in all directions, not to include the Port Manatee Channel.

(iv) Seaport Manatee, Manatee County, FL. All waters, from surface to bottom, extending 50 yards from the shore, seawall, and piers around facilities in Seaport Manatee encompassed by a line connecting the following points: 27°37.60′ N, 082°33.77′ W; thence to 27°37.60′ N, 082°33.80′ W; thence to 27°38.33′ N, 082°33.79′ W; thence to 27°38.32′ N, 082°33.52′ W.

(v) MacDill Air Force Base, Tampa Bay, FL. All waters encompassed within the following coordinates: 27°51.88′ N, 082°29.31′ W; thence to 27°52.01′ N, 082°28.85′ W; thence to 27°51.48′ N, 082°28.17′ W; thence to 27°51.02′ N, 082°27.76′ W; thence to 27°50.72′ N, 082°27.61′ W; thence to 27°50.33′ N, 082°27.59′ W; thence to 27°49.65′ N, 082°27.73′ W; thence to 27°49.34′ N, 082°27.79′ W; thence to 27°49.10′ N, 082°27.88′ W; thence to 27°48.88′ N, 082°28.10′ W; thence to 27°48.76′ N, 082°28.54′ W; thence to 27°48.87′ N, 082°29.44′ W; thence to 27°49.06′ N, 082°30.39′ W; thence to 27°48.75′ N, 082°31.17′ W; thence to 27°49.16′ N, 082°32.41′ W; thence to 27°49.64′ N, 082°33.04′ W; thence to 27°49.95′ N, 082°32.75′ W; thence to 27°50.09′ N, 082°32.81′ W; thence to 27°50.56′ N, 082°32.75′ W; thence to 27°50.71′ N, 082°32.18′ W.

(vi) Piers, seawalls, and facilities, Port of Tampa and Port Sutton, Tampa, FL. All waters, from surface to bottom, extending 50 yards from the shore, seawall, and piers around facilities in Port Sutton within the Port of Tampa encompassed by a line connecting the following points: 27°54.15′ N, 082°26.06′ W; thence to; 27°54.46′ N, 082°25.71′ W; closing off all Port Sutton Channel.

(vii) Piers, seawalls, and facilities, Port of Tampa, on the western side of Hooker's Point, Tampa, FL. All waters, from surface to bottom, extending 50 yards from the shore, seawall, and piers around facilities on Hillsborough Bay northern portion of Cut “D” Channel, Sparkman Channel, Ybor Turning Basin, and Ybor Channel within the Port of Tampa encompassed by a line connecting the following points: 27°54.74′ N, 082°26.47′ W; thence to 27°55.25′ N, 082°26.73′ W; thence to 27°55.60′ N, 082°26.80′ W; thence to 27°56.00′ N, 082°26.75′ W; thence to 27°56.58′ N, 082°26.53′ W; thence to 27°57.29′ N, 082°26.51′ W; thence to 27°57.29′ N, 082°26.61′ W; thence to 27°56.65′ N, 082°26.63′ W; thence to 27°56.58′ N, 082°26.69′ W; thence to 27°56.53′ N, 082°26.90′ W.

(viii) St. Petersburg Harbor, FL. All waters, from surface to bottom, extending 50 yards from the seawall and around all moorings and vessels in St. Petersburg Harbor (Bayboro Harbor), commencing on the north side of the channel at day beacon “10” (LLNR 24995) in approximate position 27°45.56′ N, 082°37.55′ W, and westward along the seawall to the end of the cruise terminal in approximate position 27°45.72′ N, 082°37.97′ W. The zone will also include the Coast Guard south moorings in St. Petersburg Harbor. The zone will extend 50 yards around the piers commencing from approximate position 27°45.51′ N, 082°37.99′ W; to 27°45.52′ N, 082°37.57′ W. The southern boundary of the zone is shoreward of a line between the entrance to Salt Creek easterly towards day beacon “11” (LLNR 24990).

(ix) Crystal River Nuclear Power Plant. All waters, from surface to bottom, around the FL, Power Crystal River Nuclear Power Plant located at the end of the Florida Power Corporation Channel, Crystal River, Florida, encompassed by a line connecting the following points: 28°56.87′ N, 082°45.17′ W; thence to 28°57.37′ N, 082°41.92′ W; thence to 28°56.79′ N, 082°45.13′ W; thence to 28°57.32′ N, 082°41.92′ W.

(x) Crystal River Demory Gap Channel. All waters, from surface to bottom, in the Demory Gap Channel in Crystal River, Florida, encompassed by the following points: 28°57.61′ N, 082°43.42′ W thence to; 28°57.55′ N, 082°41.88′ W thence to; 28°57.58′ N, 082°43.42′ W thence to; 28°57.51′ N, 082°41.88′ W.

(xi) Big Bend Power Plant, FL. All waters of Tampa Bay, from surface to bottom, adjacent to the Big Bend Power Facility, and within an area bounded by the following points: 27°48.08′ N, 082°24.88′ W; thence to 27°48.15′ N, 082°24.96′ W; thence to; 27°48.10′ N, 082°25.00′ W; thence to 27°47.85′ N, 082°25.03′ W; thence to 27°47.58′ N, 082°24.89′ W; thence to 27°47.58′ N, 082°24.06′ W; thence to; 27°47.62′ N, 082°24.04′ W; thence to 27°47.63′ N, 082°24.71′ W; thence to 27°48.03′ N, 082°24.70′ W; thence to 27°48.08′ N, 082°24.88′ W, closing off entrance to Big Bend Power Facility and the attached cooling canal.

(xii) Weedon Island Power Plant, FL. All waters of Tampa Bay, from surface to bottom, extending 50 yards from the shore, seawall and piers around the Power Facility at Weedon Island encompassed by the following points: 27°51.52′ N, 082°35.82′ W; thence along the shore to; 27°51.54′ N, 082°35.78′ W; thence to 27°51.89′ N, 082°35.82′ W; thence to 27°51.89′ N, 082°36.14′ W, closing off the entrance to both canals.

(2) Vessel specific security zones. (i) Moving security zones for Cruise Ships and vessels carrying Especially Hazardous Cargos. The following security zones and procedures are established for all waters, from surface to bottom, within a 500-yard radius, as outlined below:

(A) For inbound vessels commencing at Egmont Channel Lighted Buoys “9” (LLNR 22270) and “10” (LLNR 22275) through to berth.

(B) For shifting vessels from their departure berth to destination berth.

(C) For outbound vessels commencing at berth through to Egmont Channel Lighted Buoys “9” (LLNR 22270) and “10” (LLNR 22275).

(D) All subject vessels operating in the Captain of the Port St. Petersburg Zone shall follow the reporting requirements in 33 CFR part 160, subpart C.

(E) Any vessel desiring to enter or transit the security zone shall obtain permission from the Captain of the Port St. Petersburg or a designated representative. If permission is granted, all persons and vessels must comply with any given instructions.

(ii) Fixed security zones for moored cruise ships and moored vessels carrying especially hazardous cargos. A security zone is established for all waters, from surface to bottom, within a 200-yard radius around moored cruise ships and moored vessels carrying especially hazardous cargos, as outlined below:

(A) All subject vessels operating in the Captain of the Port St. Petersburg Zone shall follow reporting requirements in 33 CFR part 160, subpart C.

(B) Any vessel desiring to enter or transit the security zone shall obtain permission from the Captain of the Port St. Petersburg or a designated representative. If permission is granted, all persons and vessels must comply with any given instructions.

(C) No vessel may loiter, anchor, or conduct maintenance operations within the security zone, unless otherwise directed by the Captain of the Port St. Petersburg or a designated representative. This includes, but is not limited to dredging operations, dive operations, and surveying. Anyone wanting to conduct these operations must submit a request via email to WWMTampa@uscg.mil or contact the Sector Command Center after hours at 727.824.7506.

(b) Definitions. As used in this section:

Ammonium nitrate means ammonium nitrate and ammonium nitrate based fertilizers listed as Division 5.1 (oxidizing) materials as defined in 33 CFR 172.101 except when carried as CDC residue.

Captain of the Port (COTP) for the purpose of this section means the Commanding Officer of Coast Guard Sector St. Petersburg.

Captain of the Port St. Petersburg Zone as defined in 33 CFR 3.35-35.

Certain dangerous cargo includes Division 1.5D blasting agents for which a permit is required under 49 CFR 176.415 or, for which a permit is required as a condition of Research and Special Programs Administration exemption. This includes ammonium nitrate fuel oil mixture.

Commercial vessels means any tank, bulk, container, cargo, cruise ships, pilot vessels, or tugs. This definition excludes fishing vessels, salvage vessels, dead ship tow operations.

Cruise Ship means the same as defined 33 CFR 101.105.

Designated representative means Coast Guard Patrol Commanders including Coast Guard coxswains, petty officers and other officers operating Coast Guard vessels, and Federal, State, and local officers designated by or assisting the COTP, in the enforcement of regulated navigation areas, safety zones, and security zones.

Especially hazardous cargo means anhydrous ammonia, ammonium nitrate, chlorine, liquefied natural gas, liquefied petroleum gas, and any other substance, material, or group or class in a particular amount and form that the Secretary determines by regulation poses a significant risk of creating a transportation security incident while being transported in maritime commerce.

(c) Regulations. (1) Entry into or remaining on or within the zones described in paragraph (a) of this section is prohibited unless authorized by the Captain of the Port St. Petersburg or a designated representative.

(2) Any changes to the requirements for these regulated areas will be given by Broadcast Notice to Mariners on VHF-FM Channel 22A.

Note 1 to § 165.703(c)(2): A graphical representation of all fixed security zones will be made available through nautical charts via the Coast Pilot.

(3) The Captain of Port St. Petersburg has provisions for escorting especially hazardous cargos as described in this subchapter, but reserves the right to establish additional provisions for any potentially hazardous cargos.

(d) Enforcement. Under § 165.33, no person may authorize the operation of a vessel in the security zones contrary to the provisions of this section.

(e) Waivers. The Captain of the Port St. Petersburg may waive any of the requirements of this subpart for any vessel, facility, or structure upon finding that the vessel or class of vessel, operational conditions, or other circumstances are such that application of this subpart is unnecessary or impractical for purposes of port safety and security or environmental safety.

Dated: November 18, 2025.
Courtney A. Sergent,
Captain, U.S. Coast Guard, Captain of the Port, Sector St. Petersburg.

[FR Doc. 2025-20567 Filed 11-20-25; 8:45 am]

BILLING CODE 9110-04-P